POSTAL SERVICE

39 CFR Part 20

Priority Mail Global Guaranteed

AGENCY: Postal Service.

ACTION: Amendment to interim rule.

SUMMARY: The Postal Service is amending the interim rule on Priority Mail Global Guaranteed service to change rates for this service, add additional acceptance offices, introduce optional document reconstruction insurance coverage up to $2,499, and provide service to China.

EFFECTIVE DATE: August 27, 2000. Comments on the amendment to the interim rule must be received on or before September 27, 2000.

ADDRESSES: Written comments should be sent to E/PS, Business Initiatives, 200 E. Mansell Ct., Suite 300, Roswell, GA 30076-9700. Copies of all written comments will be available for public inspection between 9 a.m. and 4 p.m., Monday through Friday, in Business Initiatives, 200 E. Mansell Ct., Suite 300, Roswell, GA.

FOR FURTHER INFORMATION CONTACT: Malcolm Hunt, (770) 360-1104.

SUPPLEMENTARY INFORMATION: On April 19, 1999, the Postal Service announced in the Federal Register (62 FR 19039-19042) the introduction of Priority Mail Global Guaranteed on an interim basis.

The Postal Service, through an alliance with DHL Worldwide Express Inc., is offering an enhanced expedited service, Priority Mail Global Guaranteed, from selected locations in the United States to most countries. This service offers day-certain delivery with postage refund guarantee and document reconstruction coverage of $100 for allowable contents.

On November 4, 1999, the Postal Service announced in the Federal Register (64 FR 60106-60109) an amendment to the interim rule to add more U.S. acceptance locations and to extend the service to more destination countries. On May 26, 2000, the Postal Service again amended the interim rule in the Federal Register (65 FR 34096-34101) to change rates for Priority Mail Global Guaranteed service and to provide service to most countries. Public comments were requested by June 26, 2000, and by that date one comment was received. The comment related to the way in which the Postal Service categorized the U.S. acceptance offices and how the acceptance offices were selected.

The acceptance offices are selected on their ability to meet the stringent service standards for this service based on local considerations such as timely transportation, mail processing capabilities, and access to national transportation. Most decisions are made by local postal officials and are based on local conditions and the ability to have reasonable acceptance times. The Postal Service will continue to evaluate the acceptance network and expand it when service can be reasonably provided.

The Postal Service is amending the interim rule on Priority Mail Global Guaranteed service to change rates for this service, add additional acceptance offices, introduce optional document reconstruction insurance coverage up to $2,499, and provide service to China.

The rates have been refined to have separate rates for all rates groups. In addition, a number of destinations are assigned to different rates groups. The redesigned rate schedule better reflects the cost of providing the service.

Service is also being added to China. It should be noted that due to circumstances beyond the control of the Postal Service, service to Brazil has been temporarily suspended. Service will be available to all country destinations listed in the International Mail Manual (IMM) except Afghanistan, Ascension, Brazil, Iraq, Japan, Democratic People's Republic of Korea (North), Libya, Pitcairn Island, Saint Helena, Sudan, and Tristan de Cunha.

The applicable rates and the destination countries that are associated with each rate group are as follows:

Weight not over (lbs.) | Rate group: 1 | Rate group: 2 | Rate group: 3 | Rate group: 4 | Rate group: 5 | Rate group: 6 | Rate group: 7 | Rate group: 8
0.5 | $19.00 | $20.00 | $24.00 | $29.00 | $40.00 | $28.00 | $24.00 | $60.00
1 | 28.00 | 28.00 | 30.00 | 38.00 | 46.00 | 41.00 | 35.00 | 68.00
2 | 33.00 | 35.00 | 38.00 | 47.00 | 56.00 | 51.00 | 41.00 | 79.00
3 | 35.00 | 41.00 | 45.00 | 54.00 | 70.00 | 57.00 | 48.00 | 91.00
4 | 38.00 | 45.00 | 53.00 | 61.00 | 84.00 | 63.00 | 54.00 | 102.00
5 | 41.00 | 50.00 | 61.00 | 68.00 | 97.00 | 70.00 | 60.00 | 114.00
6 | 43.00 | 53.00 | 67.00 | 75.00 | 110.00 | 75.00 | 65.00 | 126.00
7 | 46.00 | 56.00 | 71.00 | 81.00 | 122.00 | 81.00 | 70.00 | 138.00
8 | 48.00 | 60.00 | 75.00 | 88.00 | 134.00 | 86.00 | 74.00 | 150.00
9 | 50.00 | 63.00 | 80.00 | 95.00 | 147.00 | 91.00 | 79.00 | 162.00
10 | 53.00 | 65.00 | 84.00 | 99.00 | 156.00 | 97.00 | 82.00 | 170.00
11 | 55.00 | 68.00 | 87.00 | 104.00 | 166.00 | 100.00 | 86.00 | 181.00
12 | 57.00 | 71.00 | 91.00 | 110.00 | 176.00 | 104.00 | 90.00 | 193.00
13 | 60.00 | 74.00 | 94.00 | 115.00 | 186.00 | 108.00 | 94.00 | 205.00
14 | 62.00 | 76.00 | 98.00 | 120.00 | 196.00 | 112.00 | 98.00 | 216.00
15 | 64.00 | 79.00 | 101.00 | 125.00 | 205.00 | 116.00 | 102.00 | 228.00
16 | 67.00 | 82.00 | 104.00 | 131.00 | 214.00 | 120.00 | 106.00 | 239.00
17 | 69.00 | 84.00 | 108.00 | 136.00 | 222.00 | 124.00 | 110.00 | 250.00
18 | 71.00 | 87.00 | 111.00 | 141.00 | 229.00 | 128.00 | 114.00 | 261.00
19 | 74.00 | 90.00 | 115.00 | 146.00 | 237.00 | 132.00 | 118.00 | 272.00
20 | 76.00 | 92.00 | 118.00 | 151.00 | 244.00 | 136.00 | 122.00 | 283.00
21 | 78.00 | 95.00 | 121.00 | 156.00 | 251.00 | 139.00 | 126.00 | 292.00
22 | 80.00 | 97.00 | 125.00 | 161.00 | 259.00 | 143.00 | 130.00 | 301.00
23 | 82.00 | 100.00 | 128.00 | 166.00 | 266.00 | 147.00 | 134.00 | 308.00
24 | 85.00 | 103.00 | 132.00 | 171.00 | 274.00 | 151.00 | 138.00 | 315.00
25 | 87.00 | 105.00 | 135.00 | 176.00 | 281.00 | 155.00 | 142.00 | 323.00
26 | 89.00 | 108.00 | 138.00 | 181.00 | 289.00 | 159.00 | 146.00 | 330.00
27 | 91.00 | 110.00 | 142.00 | 185.00 | 296.00 | 163.00 | 150.00 | 337.00
28 | 93.00 | 113.00 | 145.00 | 190.00 | 304.00 | 167.00 | 153.00 | 345.00
29 | 95.00 | 115.00 | 148.00 | 195.00 | 311.00 | 171.00 | 157.00 | 352.00
30 | 98.00 | 119.00 | 153.00 | 202.00 | 322.00 | 177.00 | 163.00 | 363.00
31 | 100.00 | 122.00 | 157.00 | 207.00 | 329.00 | 181.00 | 167.00 | 371.00
32 | 102.00 | 124.00 | 160.00 | 212.00 | 337.00 | 185.00 | 171.00 | 378.00
33 | 104.00 | 126.00 | 164.00 | 217.00 | 344.00 | 189.00 | 175.00 | 386.00
34 | 107.00 | 127.00 | 167.00 | 222.00 | 352.00 | 193.00 | 179.00 | 393.00
35 | 109.00 | 129.00 | 170.00 | 227.00 | 360.00 | 197.00 | 183.00 | 401.00
36 | 111.00 | 131.00 | 174.00 | 231.00 | 367.00 | 201.00 | 187.00 | 408.00
37 | 113.00 | 133.00 | 177.00 | 236.00 | 375.00 | 205.00 | 191.00 | 416.00
38 | 115.00 | 135.00 | 181.00 | 241.00 | 382.00 | 209.00 | 195.00 | 423.00
39 | 117.00 | 137.00 | 184.00 | 246.00 | 389.00 | 213.00 | 199.00 | 430.00
40 | 119.00 | 139.00 | 187.00 | 251.00 | 395.00 | 217.00 | 203.00 | 438.00
41 | 121.00 | 141.00 | 191.00 | 256.00 | 402.00 | 221.00 | 207.00 | 445.00
42 | 125.00 | 143.00 | 194.00 | 261.00 | 409.00 | 225.00 | 211.00 | 453.00
43 | 127.00 | 145.00 | 198.00 | 266.00 | 416.00 | 229.00 | 215.00 | 460.00
44 | 129.00 | 146.00 | 201.00 | 271.00 | 423.00 | 233.00 | 219.00 | 468.00
45 | 132.00 | 148.00 | 205.00 | 275.00 | 430.00 | 237.00 | 223.00 | 475.00
46 | 134.00 | 150.00 | 208.00 | 280.00 | 437.00 | 241.00 | 227.00 | 482.00
47 | 136.00 | 151.00 | 211.00 | 285.00 | 443.00 | 245.00 | 231.00 | 490.00
48 | 138.00 | 153.00 | 215.00 | 290.00 | 450.00 | 249.00 | 235.00 | 497.00
49 | 141.00 | 155.00 | 218.00 | 295.00 | 457.00 | 253.00 | 239.00 | 505.00
50 | 143.00 | 158.00 | 224.00 | 303.00 | 469.00 | 259.00 | 245.00 | 518.00
51 | 147.00 | 160.00 | 227.00 | 308.00 | 476.00 | 259.00 | 249.00 | 533.00
52 | 149.00 | 160.00 | 231.00 | 313.00 | 483.00 | 267.00 | 253.00 | 533.00
53 | 151.00 | 164.00 | 234.00 | 318.00 | 490.00 | 271.00 | 257.00 | 549.00
54 | 154.00 | 164.00 | 238.00 | 323.00 | 497.00 | 275.00 | 261.00 | 549.00
55 | 155.00 | 167.00 | 241.00 | 328.00 | 504.00 | 278.00 | 265.00 | 562.00
56 | 157.00 | 167.00 | 245.00 | 333.00 | 511.00 | 283.00 | 270.00 | 562.00
57 | 157.00 | 170.00 | 248.00 | 338.00 | 518.00 | 286.00 | 274.00 | 574.00
58 | 157.00 | 170.00 | 251.00 | 343.00 | 524.00 | 291.00 | 278.00 | 574.00
59 | 157.00 | 173.00 | 255.00 | 348.00 | 531.00 | 294.00 | 282.00 | 587.00
60 | 157.00 | 173.00 | 258.00 | 353.00 | 538.00 | 299.00 | 285.00 | 587.00
61 | 164.00 | 176.00 | 262.00 | 358.00 | 545.00 | 302.00 | 290.00 | 602.00
62 | 165.00 | 176.00 | 265.00 | 362.00 | 551.00 | 308.00 | 292.00 | 602.00
63 | 167.00 | 179.00 | 269.00 | 367.00 | 559.00 | 310.00 | 298.00 | 617.00
64 | 168.00 | 179.00 | 272.00 | 372.00 | 562.00 | 316.00 | 298.00 | 617.00
65 | 169.00 | 182.00 | 276.00 | 377.00 | 573.00 | 318.00 | 305.00 | 632.00
66 | 169.00 | 182.00 | 279.00 | 382.00 | 573.00 | 324.00 | 305.00 | 632.00
67 | 169.00 | 186.00 | 282.00 | 387.00 | 584.00 | 326.00 | 313.00 | 647.00
68 | 169.00 | 186.00 | 286.00 | 392.00 | 584.00 | 332.00 | 313.00 | 647.00
69 | 169.00 | 189.00 | 289.00 | 397.00 | 595.00 | 334.00 | 320.00 | 662.00
70 | 169.00 | 189.00 | 293.00 | 402.00 | 595.00 | 340.00 | 320.00 | 662.00

Country | Rate group
Afghanistan ᵃ | -
Albania | 8
Algeria | 8
Andorra | 6
Angola | 8
Anguilla | 7
Antigua & Barbuda | 7
Argentina | 5
Armenia | 8
Aruba | 7
Ascension ᵃ | -
Australia | 4
Austria | 6
Azerbaijan | 8
Bahamas | 7
Bahrain | 4
Bangladesh | 4
Barbados | 7
Belarus | 8
Belgium | 3
Belize | 5
Benin | 8
Bermuda | 7
Bhutan | 5
Bolivia | 5
Bosnia-Herzegovina | 8
Botswana | 8
Brazil ᵇ | 5
British Virgin Islands | 7
Brunei Darussalam | 8
Bulgaria | 8
Burkina Faso | 8
Burma (Myanmar) | 8
Burundi | 8
Cambodia | 8
Cameroon | 8
Canada | 1
Cape Verde | 8
Cayman Islands | 7
Central African Republic | 8
Chad | 8
Chile | 5
China | 4
Colombia | 5
Comoros | 8
Congo, Democratic Republic of the | 8
Congo, Republic of the | 8
Costa Rica | 5
Cote d'Ivoire (Ivory Coast) | 8
Croatia | 8
Cuba | 8
Cyprus | 4
Czech Republic | 8
Denmark | 6
Djibouti | 8
Dominica | 7
Dominican Republic | 7
Ecuador | 5
Egypt | 4
El Salvador | 5
Equatorial Guinea | 8
Eritrea | 8
Estonia | 8
Ethiopia | 8
Falkland Islands | 5
Faroe Islands | 6
Fiji | 5
Finland | 6
France | 3
French Guiana | 5
French Polynesia | 8
Gabon | 8
Gambia | 8
Georgia, Republic of | 8
Germany | 3
Ghana | 8
Gibraltar | 6
Great Britain & Northern Ireland | 3
Greece | 6
Greenland | 6
Grenada | 7
Guadeloupe | 7
Guatemala | 5
Guinea | 8
Guinea-Bissau | 8
Guyana | 5
Haiti | 7
Honduras | 5
Hong Kong | 3
Hungary | 8
Iceland | 6
India | 4
Indonesia | 4
Iran | 4
Iraq ᵃ | -
Ireland (Eire) | 3
Israel | 4
Italy | 3
Jamaica | 7
Japan ᵃ | -
Jordan | 4
Kazakhstan | 8
Kenya | 8
Kiribati | 8
Korea, Democratic People's Republic of (North) ᵃ | -
Korea, Republic of (South) | 4
Kuwait | 4
Kyrgyzstan | 8
Laos | 8
Latvia | 8
Lebanon | 4
Lesotho | 8
Liberia | 8
Libya ᵃ | -
Liechtenstein | 6
Lithuania | 8
Luxembourg | 3
Macao | 3
Macedonia, Republic of | 8
Madagascar | 8
Malawi | 8
Malaysia | 4
Maldives | 8
Mali | 8
Malta | 6
Martinique | 7
Mauritania | 8
Mauritius | 8
Mexico | 2
Moldova | 8
Mongolia | 8
Montserrat | 7
Morocco | 8
Mozambique | 8
Namibia | 8
Nauru | 8
Nepal | 8
Netherlands | 3
Netherlands Antilles | 7
New Caledonia | 5
New Zealand | 4
Nicaragua | 5
Niger | 8
Nigeria | 8
Norway | 6
Oman | 4
Pakistan | 4
Panama | 5
Papua New Guinea | 5
Paraguay | 5
Peru | 5
Philippines | 4
Pitcairn Island ᵃ | -
Poland | 8
Portugal | 6
Qatar | 4
Reunion | 8
Romania | 8
Russia | 8
Rwanda | 8
St Christopher (St Kitts) & Nevis | 7
Saint Helena ᵃ | -
Saint Lucia | 7
Saint Pierre & Miquelon | 1
Saint Vincent & Grenadines | 7
San Marino | 3
Sao Tome & Principe | 8
Saudi Arabia | 4
Senegal | 8
Serbia-Montenegro (Yugoslavia) | 8
Seychelles | 8
Sierra Leone | 8
Singapore | 3
Slovak Republic (Slovakia) | 8
Slovenia | 8
Solomon Islands | 8
Somalia | 8
South Africa | 8
Spain | 6
Sri Lanka | 4
Sudan ᵃ | -
Suriname | 5
Swaziland | 8
Sweden | 6
Switzerland | 6
Syrian Arab Republic (Syria) | 4
Taiwan | 3
Tajikistan | 8
Tanzania | 8
Thailand | 4
Togo | 8
Tonga | 8
Trinidad & Tobago | 7
Tristan da Cunha ᵃ | -
Tunisia | 8
Turkey | 4
Turkmenistan | 8
Turks & Caicos Islands | 7
Tuvalu | 8
Uganda | 8
Ukraine | 8
United Arab Emirates | 4
Uruguay | 5
Uzbekistan | 8
Vanuatu | 5
Vatican City | 3
Venezuela | 5
Vietnam | 4
Wallis & Futuna Islands | 4
Western Samoa | 4
Yemen | 4
Zambia | 8
Zimbabwe | 8
ᵃ No service.
ᵇ Service temporarily suspended.

Priority Mail Global Guaranteed service is expanded to originate from all post offices in the following 3-digit ZIP Code areas.

State | ZIP Code areas
AL—Alabama | 352, 356-358, 361-362, 366, 368
AR—Arkansas | 722-723
AZ—Arizona | 850, 852-853, 857
CA—California | 900, 902-908, 910-922, 926-928, 937, 939-941, 943-951, 954
CO—Colorado | 800-803, 805-806, 808-810
CT—Connecticut | 060-069
DC—District of Columbia | 200, 202-203, 205
DE—Delaware | 197-199
FL—Florida | 320-323, 326-339, 342, 344, 346-347, 349
GA—Georgia | 300-319
IA—Iowa | 500-504, 506-507, 510-511, 515-516, 520, 522-528
IL—Illinois | 600-620, 622, 625-627, 629
IN—Indiana | 460-479
KS—Kansas | 660-662, 664-668, 674, 676
KY—Kentucky | 400-406, 410-416, 421-424, 427
LA—Louisiana | 700-701, 703-704, 707-708
MA—Massachusetts | 010-027
MD—Maryland | 206-212, 214-219
ME—Maine | 039-041
MI—Michigan | 480-497
MN—Minnesota | 550-551, 553-554, 558-563
MO—Missouri | 630-631, 633, 636-641, 644-648, 654-658
MS—Mississippi | 383, 386, 389, 392, 394-395
MT—Montana | 591
NC—North Carolina | 270-282, 286-289
NE—Nebraska | 680-681, 683-687
NH—New Hampshire | 010-011, 030-034, 036-038
NJ—New Jersey | 070-089
NM—New Mexico | 871
NY—New York | 100-101, 103-149
OH—Ohio | 430-458
OK—Oklahoma | 730-731, 734-738, 740-741, 743-748
OR—Oregon | 972
PA—Pennsylvania | 150-176, 178-179, 189-191, 193-196
PR—Puerto Rico | 006-007, 009
RI—Rhode Island | 028-029
SC—South Carolina | 297-299
SD—South Dakota | 570-571
TN—Tennessee | 370-374, 376-385
TX—Texas | 750-756, 759-770, 772-778, 780-782, 784, 786-789, 791, 794-796, 799
UT—Utah | 840-841, 843-847
VA—Virginia | 201, 220-239, 244, 246
VI—Virgin Islands | 008
VT—Vermont | 054, 056
WA—Washington | 980-985, 988-989
WI—Wisconsin | 530-532, 534, 537, 540, 543, 546-549
WV—West Virginia | 247-248, 250-257, 260, 267
WY—Wyoming | 820

Currently, Priority Mail Global Guaranteed service includes document reconstruction insurance up to $100 per shipment at no additional charge. The Postal Service is introducing optional document reconstruction insurance up to a maximum of $2,499. The fee for this coverage is $0.70 per $100 of additional insurance over the initial reconstruction insurance coverage for $100 that is provided. Optional insurance may be purchased only for the declared value of the shipment or a lesser amount as limited by the country of destination, content, or value.

Although the Postal Service is exempted by 39 U.S.C. 410(a) from the advance notice requirements of the Administrative Procedure Act regarding proposed rulemaking (5 U.S.C. 553), the Postal Service invites public comment on the amendment to the interim rule at the above address.

The Postal Service is amending International Mail Manual chapter 2, Conditions for Mailing, which is incorporated by reference in the Code of Federal Regulations. See 39 CFR 20.1.

A transmittal letter changing the relevant pages in the International Mail Manual will be published and automatically transmitted to all subscribers. Notice of issuance of the transmittal will be published in the Federal Register as provided by 39 CFR 20.3.

List of Subjects in 39 CFR Part 20

Foreign relations, International postal service.

PART 20—[AMENDED]

1. The authority citation for 39 CFR part 20 continues to read as follows:

Authority: 5 U.S.C. 552(a); 39 U.S.C. 401, 404, 407, 408.

2. Chapter 2 of the International Mail Manual (IMM) is amended as follows:

2 Conditions for Mailing

210 Express Mail International Service

* * * * *

215 Priority Mail Global Guaranteed

215.1 Description

215.11 General

Priority Mail Global Guaranteed (PMGG) is an international expedited delivery service provided through an alliance with DHL Worldwide Express Inc. It provides reliable, high-speed, guaranteed, and time-definite service from certain post offices in the United States to a select number of international destinations. Service is guaranteed to meet service standards or postage is refunded. If a mail shipment is lost or damaged, liability is limited to a maximum of $100 for document reconstruction. Optional document reconstruction insurance is available up to $2,499.

* * * * *

215.3 Service Areas

215.31 U.S. Origins

Priority Mail Global Guaranteed items must be entered at post offices that are located in the following 3-digit ZIP Code areas:

State | ZIP Code areas
AL—Alabama | 352, 356-358, 361-362, 366, 368
AR—Arkansas | 722-723
AZ—Arizona | 850, 852-853, 857
CA—California | 900, 902-908, 910-922, 926-928, 937, 939-941, 943-951, 954
CO—Colorado | 800-803, 805-806, 808-810
CT—Connecticut | 060-069
DC—District of Columbia | 200, 202-203, 205
DE—Delaware | 197-199
FL—Florida | 320-323, 326-339, 342, 344, 346-347, 349
GA—Georgia | 300-319
IA—Iowa | 500-504, 506-507, 510-511, 515-516, 520, 522-528
IL—Illinois | 600-620, 622, 625-627, 629
IN—Indiana | 460-479
KS—Kansas | 660-662, 664-668, 674, 676
KY—Kentucky | 400-406, 410-416, 421-424, 427
LA—Louisiana | 700-701, 703-704, 707-708
MA—Massachusetts | 010-027
MD—Maryland | 206-212, 214-219
ME—Maine | 039-041
MI—Michigan | 480-497
MN—Minnesota | 550-551, 553-554, 558-563
MO—Missouri | 630-631, 633, 636-641, 644-648, 654-658
MS—Mississippi | 383, 386, 389, 392, 394-395
MT—Montana | 591
NC—North Carolina | 270-282, 286-289
NE—Nebraska | 680-681, 683-687
NH—New Hampshire | 010-011, 030-034, 036-038
NJ—New Jersey | 070-089
NM—New Mexico | 871
NY—New York | 100-101, 103-149
OH—Ohio | 430-458
OK—Oklahoma | 730-731, 734-738, 740-741, 743-748
OR—Oregon | 972
PA—Pennsylvania | 150-176, 178-179, 189-191, 193-196
PR—Puerto Rico | 006-007, 009
RI—Rhode Island | 028-029
SC—South Carolina | 297-299
SD—South Dakota | 570-571
TN—Tennessee | 370-374, 376-385
TX—Texas | 750-756, 759-770, 772-778, 780-782, 784, 786-789, 791, 794-796, 799
UT—Utah | 840-841, 843-847
VA—Virginia | 201, 220-239, 244, 246
VI—Virgin Islands | 008
VT—Vermont | 054, 056
WA—Washington | 980-985, 988-989
WI—Wisconsin | 530-532, 534, 537, 540, 543, 546-549
WV—West Virginia | 247-248, 250-257, 260, 267
WY—Wyoming | 820

215.32 Foreign Destinations

Priority Mail Global Guaranteed service is available to all locations referenced in the Individual Country Listings except for the following:

Afghanistan

Ascension

Brazil (temporarily suspended)

Iraq

Japan

Korea, Democratic People's Republic of (North)

Libya

Pitcairn Island

Saint Helena

Sudan

Tristan de Cunha

* * * * *

215.5 Inquiries, Postage Refunds, and Indemnity Claims

215.51 Extent of Postal Service Liability for Lost or Damaged Contents

Liability for a lost or damaged shipment is limited to the lowest of the following:

a. $100 or the amount of additional optional insurance purchased.

b. The actual amount of the loss or damage.

c. The actual value of the contents.

* * * * *

215.6 Postage

215.61 Rates

Weight not over (lbs.) | Rate group: 1 | Rate group: 2 | Rate group: 3 | Rate group: 4 | Rate group: 5 | Rate group: 6 | Rate group: 7 | Rate group: 8
0.5 | $19.00 | $20.00 | $24.00 | $29.00 | $40.00 | $28.00 | $24.00 | $60.00
1 | 28.00 | 28.00 | 30.00 | 38.00 | 46.00 | 41.00 | 35.00 | 68.00
2 | 33.00 | 35.00 | 38.00 | 47.00 | 56.00 | 51.00 | 41.00 | 79.00
3 | 35.00 | 41.00 | 45.00 | 54.00 | 70.00 | 57.00 | 48.00 | 91.00
4 | 38.00 | 45.00 | 53.00 | 61.00 | 84.00 | 63.00 | 54.00 | 102.00
5 | 41.00 | 50.00 | 61.00 | 68.00 | 97.00 | 70.00 | 60.00 | 114.00
6 | 43.00 | 53.00 | 67.00 | 75.00 | 110.00 | 75.00 | 65.00 | 126.00
7 | 46.00 | 56.00 | 71.00 | 81.00 | 122.00 | 81.00 | 70.00 | 138.00
8 | 48.00 | 60.00 | 75.00 | 88.00 | 134.00 | 86.00 | 74.00 | 150.00
9 | 50.00 | 63.00 | 80.00 | 95.00 | 147.00 | 91.00 | 79.00 | 162.00
10 | 53.00 | 65.00 | 84.00 | 99.00 | 156.00 | 97.00 | 82.00 | 170.00
11 | 55.00 | 68.00 | 87.00 | 104.00 | 166.00 | 100.00 | 86.00 | 181.00
12 | 57.00 | 71.00 | 91.00 | 110.00 | 176.00 | 104.00 | 90.00 | 193.00
13 | 60.00 | 74.00 | 94.00 | 115.00 | 186.00 | 108.00 | 94.00 | 205.00
14 | 62.00 | 76.00 | 98.00 | 120.00 | 196.00 | 112.00 | 98.00 | 216.00
15 | 64.00 | 79.00 | 101.00 | 125.00 | 205.00 | 116.00 | 102.00 | 228.00
16 | 67.00 | 82.00 | 104.00 | 131.00 | 214.00 | 120.00 | 106.00 | 239.00
17 | 69.00 | 84.00 | 108.00 | 136.00 | 222.00 | 124.00 | 110.00 | 250.00
18 | 71.00 | 87.00 | 111.00 | 141.00 | 229.00 | 128.00 | 114.00 | 261.00
19 | 74.00 | 90.00 | 115.00 | 146.00 | 237.00 | 132.00 | 118.00 | 272.00
20 | 76.00 | 92.00 | 118.00 | 151.00 | 244.00 | 136.00 | 122.00 | 283.00
21 | 78.00 | 95.00 | 121.00 | 156.00 | 251.00 | 139.00 | 126.00 | 292.00
22 | 80.00 | 97.00 | 125.00 | 161.00 | 259.00 | 143.00 | 130.00 | 301.00
23 | 82.00 | 100.00 | 128.00 | 166.00 | 266.00 | 147.00 | 134.00 | 308.00
24 | 85.00 | 103.00 | 132.00 | 171.00 | 274.00 | 151.00 | 138.00 | 315.00
25 | 87.00 | 105.00 | 135.00 | 176.00 | 281.00 | 155.00 | 142.00 | 323.00
26 | 89.00 | 108.00 | 138.00 | 181.00 | 289.00 | 159.00 | 146.00 | 330.00
27 | 91.00 | 110.00 | 142.00 | 185.00 | 296.00 | 163.00 | 150.00 | 337.00
28 | 93.00 | 113.00 | 145.00 | 190.00 | 304.00 | 167.00 | 153.00 | 345.00
29 | 95.00 | 115.00 | 148.00 | 195.00 | 311.00 | 171.00 | 157.00 | 352.00
30 | 98.00 | 119.00 | 153.00 | 202.00 | 322.00 | 177.00 | 163.00 | 363.00
31 | 100.00 | 122.00 | 157.00 | 207.00 | 329.00 | 181.00 | 167.00 | 371.00
32 | 102.00 | 124.00 | 160.00 | 212.00 | 337.00 | 185.00 | 171.00 | 378.00
33 | 104.00 | 126.00 | 164.00 | 217.00 | 344.00 | 189.00 | 175.00 | 386.00
34 | 107.00 | 127.00 | 167.00 | 222.00 | 352.00 | 193.00 | 179.00 | 393.00
35 | 109.00 | 129.00 | 170.00 | 227.00 | 360.00 | 197.00 | 183.00 | 401.00
36 | 111.00 | 131.00 | 174.00 | 231.00 | 367.00 | 201.00 | 187.00 | 408.00
37 | 113.00 | 133.00 | 177.00 | 236.00 | 375.00 | 205.00 | 191.00 | 416.00
38 | 115.00 | 135.00 | 181.00 | 241.00 | 382.00 | 209.00 | 195.00 | 423.00
39 | 117.00 | 137.00 | 184.00 | 246.00 | 389.00 | 213.00 | 199.00 | 430.00
40 | 119.00 | 139.00 | 187.00 | 251.00 | 395.00 | 217.00 | 203.00 | 438.00
41 | 121.00 | 141.00 | 191.00 | 256.00 | 402.00 | 221.00 | 207.00 | 445.00
42 | 125.00 | 143.00 | 194.00 | 261.00 | 409.00 | 225.00 | 211.00 | 453.00
43 | 127.00 | 145.00 | 198.00 | 266.00 | 416.00 | 229.00 | 215.00 | 460.00
44 | 129.00 | 146.00 | 201.00 | 271.00 | 423.00 | 233.00 | 219.00 | 468.00
45 | 132.00 | 148.00 | 205.00 | 275.00 | 430.00 | 237.00 | 223.00 | 475.00
46 | 134.00 | 150.00 | 208.00 | 280.00 | 437.00 | 241.00 | 227.00 | 482.00
47 | 136.00 | 151.00 | 211.00 | 285.00 | 443.00 | 245.00 | 231.00 | 490.00
48 | 138.00 | 153.00 | 215.00 | 290.00 | 450.00 | 249.00 | 235.00 | 497.00
49 | 141.00 | 155.00 | 218.00 | 295.00 | 457.00 | 253.00 | 239.00 | 505.00
50 | 143.00 | 158.00 | 224.00 | 303.00 | 469.00 | 259.00 | 245.00 | 518.00
51 | 147.00 | 160.00 | 227.00 | 308.00 | 476.00 | 259.00 | 249.00 | 533.00
52 | 149.00 | 160.00 | 231.00 | 313.00 | 483.00 | 267.00 | 253.00 | 533.00
53 | 151.00 | 164.00 | 234.00 | 318.00 | 490.00 | 271.00 | 257.00 | 549.00
54 | 154.00 | 164.00 | 238.00 | 323.00 | 497.00 | 275.00 | 261.00 | 549.00
55 | 155.00 | 167.00 | 241.00 | 328.00 | 504.00 | 278.00 | 265.00 | 562.00
56 | 157.00 | 167.00 | 245.00 | 333.00 | 511.00 | 283.00 | 270.00 | 562.00
57 | 157.00 | 170.00 | 248.00 | 338.00 | 518.00 | 286.00 | 274.00 | 574.00
58 | 157.00 | 170.00 | 251.00 | 343.00 | 524.00 | 291.00 | 278.00 | 574.00
59 | 157.00 | 173.00 | 255.00 | 348.00 | 531.00 | 294.00 | 282.00 | 587.00
60 | 157.00 | 173.00 | 258.00 | 353.00 | 538.00 | 299.00 | 285.00 | 587.00
61 | 164.00 | 176.00 | 262.00 | 358.00 | 545.00 | 302.00 | 290.00 | 602.00
62 | 165.00 | 176.00 | 265.00 | 362.00 | 551.00 | 308.00 | 292.00 | 602.00
63 | 167.00 | 179.00 | 269.00 | 367.00 | 559.00 | 310.00 | 298.00 | 617.00
64 | 168.00 | 179.00 | 272.00 | 372.00 | 562.00 | 316.00 | 298.00 | 617.00
65 | 169.00 | 182.00 | 276.00 | 377.00 | 573.00 | 318.00 | 305.00 | 632.00
66 | 169.00 | 182.00 | 279.00 | 382.00 | 573.00 | 324.00 | 305.00 | 632.00
67 | 169.00 | 186.00 | 282.00 | 387.00 | 584.00 | 326.00 | 313.00 | 647.00
68 | 169.00 | 186.00 | 286.00 | 392.00 | 584.00 | 332.00 | 313.00 | 647.00
69 | 169.00 | 189.00 | 289.00 | 397.00 | 595.00 | 334.00 | 320.00 | 662.00
70 | 169.00 | 189.00 | 293.00 | 402.00 | 595.00 | 340.00 | 320.00 | 662.00

215.63 Optional Insurance Fees

Priority Mail Global Guaranteed rates include document reconstruction insurance of $100. Additional document reconstruction insurance, not to exceed $2,499, can be purchased at the time of mailing. The fees are:

Insurance amount— (in dollars) | Fee
100 | No fee
200 | 0.70
300 | 1.40
400 | 2.10
500¹ | 2.80
¹ For document reconstruction insurance coverage above $500, add $0.70 per $100 or fraction thereof, up to a maximum of $2,499 per shipment. $2,499 (maximum)—$16.80.

* * * * *

[The Individual Country Listings in the International Mail Manual will be revised to reflect the availability of Priority Mail Global Guaranteed service and the applicable postage rates.]

Stanley F. Mires,
Chief Counsel, Legislative.

[FR Doc. 00-21856 Filed 8-25-00; 8:45 am]

BILLING CODE 7710-12-P